DEPARTMENT OF THE INTERIOR

Fish and Wildlife Service

50 CFR Part 17

[Docket Nos. FWS-R1-ES-2012-0017; FWS-R1-ES-2013-0012; 4500030113]

RIN 1018-AX72; RIN 1018-AZ54

Endangered and Threatened Wildlife and Plants; Threatened Status and Designation of Critical Habitat for Eriogonum codium (Umtanum Desert Buckwheat) and Physaria douglasii subsp. tuplashensis (White Bluffs Bladderpod)

AGENCY: Fish and Wildlife Service, Interior.

ACTION: Proposed rule; notice of public hearings.

SUMMARY: We, the U.S. Fish and Wildlife Service (Service), announce notice of two public hearings associated with the recent reopening of the comment period on our May 15, 2012, proposed listing and designation of critical habitat for Eriogonum codium (Umtanum desert buckwheat) and Physaria douglasii subsp. tuplashensis (White Bluffs bladderpod) under the Endangered Species Act of 1973, as amended (Act).

DATES: Public Hearings: We will hold two public hearings on Thursday, July 11, 2013. One hearing will occur from 9 a.m. to 12 p.m. at the Benton County Justice Center in Kennewick, Washington, and another hearing will occur at the TRAC Center in Pasco, Washington, from 3 p.m. to 5 p.m. and continuing from 6 p.m. to 8 p.m. (see ADDRESSES).

Written Comments: We will consider comments received or postmarked on or before July 22, 2013, or at the public hearings. Please note comments submitted electronically using the Federal eRulemaking Portal (see ADDRESSES) must be received by 11:59 p.m. Eastern Time on the closing date. Any comments that we receive after the closing date may not be considered in the final decisions on these actions.

ADDRESSES:

Document Availability: You may obtain copies of the proposed rule at http://www.regulations.gov at Docket No. FWS-R1-ES-2012-0017 (proposed listing) and Docket No. FWS-R1-ES-2013-0012 (proposed designation of critical habitat) for Umtanum desert buckwheat and White Bluffs bladderpod; from the Washington Fish and Wildlife Office's Web site (http://www.fws.gov/wafwo/HanfordPlants.html); or by contacting the Washington Fish and Wildlife Office directly (see FOR FURTHER INFORMATION CONTACT).

Public Hearings: The first of two public hearings for the Umtanum desert buckwheat and White Bluffs bladderpod will be held on July 11, 2013, at the Benton County Justice Center, 7122 West Quinault Place, Building A, Kennewick, Washington, 99336-7665. The second public hearing will be held on July 11, 2013, at the TRAC Center, 6600 Burden Blvd., Pasco, Washington, 99301. People needing reasonable accommodation in order to attend and participate in either public hearing should contact Ken Berg, Manager, Washington Fish and Wildlife Office, as soon as possible (see FOR FURTHER INFORMATION CONTACT).

Comment Submission: You may submit written comments by one of the following methods:

(1) Electronically: Go to the Federal eRulemaking Portal: http://www.regulations.gov. Submit comments on the proposed listing rule to FWS-R1-ES-2012-0017. Submit comments on the proposed critical habitat rule to FWS-R1-ES-2013-0012.

(2) By Hard Copy:

Submit comments on the proposed listing rule by U.S. mail or hand-delivery to: Public Comments Processing, Attn: FWS-R1-ES-2012-0017, Division of Policy and Directives Management, U.S. Fish and Wildlife Service, 4401 N. Fairfax Drive, MS 2042-PDM, Arlington, VA 22203.

Submit comments on the proposed critical habitat rule by U.S. mail or hand-delivery to: Public Comments Processing, Attn: FWS-R1-ES-2013-0012, Division of Policy and Directives Management, U.S. Fish and Wildlife Service, 4401 N. Fairfax Drive, MS 2042-PDM, Arlington, VA 22203.

We request that you send comments only by the methods described above. We will post all comments on http://www.regulations.gov. This generally means that we will post any personal information you provide us (see the Public Comments section below for more information).

FOR FURTHER INFORMATION CONTACT: Ken Berg, Manager, Washington Fish and Wildlife Office, 510 Desmond Drive, Suite 102, Lacey, WA 98503-1263; by telephone (360) 753-9440; or by facsimile (360) 534-9331. Persons who use a telecommunications device for the deaf (TDD) may call the Federal Information Relay Service (FIRS) at 800-877-8339.

SUPPLEMENTARY INFORMATION:

Public Comments

We will accept written comments and information during the reopened comment period and public hearings on our proposed listing and designation of critical habitat for the Eriogonum codium (Umtanum desert buckwheat) and Physaria douglasii subsp. tuplashensis (White Bluffs bladderpod) that was published in the Federal Register on May 15, 2012 (77 FR 28704). We will consider all information and recommendations from all interested parties.

As to the proposed listing determination, we are particularly interested in comments concerning:

(1) Biological, commercial trade, or other relevant data concerning any threats (or lack thereof) to these species and regulations that may be addressing those threats.

(2) Additional information concerning the historical and current status, range, distribution, and population size of these species, including the locations of any additional populations.

(3) Any information on the biological or ecological requirements of the species, and ongoing conservation measures for the species and their habitats.

(4) Current or planned activities in the areas occupied by these species and possible impacts of these activities on these species.

As to the proposed critical habitat determination, we are particularly interested in comments concerning:

(5) The reasons why we should or should not designate habitat as “critical habitat” under section 4 of the Act, including whether there are threats to the species from human activity, the degree of which can be expected to increase due to the designation, and whether that increase in threat outweighs the benefit of designation such that the designation of critical habitat is not prudent.

(6) Specific information on:

(a) The amount and distribution of the species' habitat;

(b) What areas occupied by the species at the time of listing that contain features essential for the conservation of the species we should include in the designation and why;

(c) Special management considerations or protection that may be needed in critical habitat areas we are proposing, including managing for the potential effects of climate change; and

(d) What areas not occupied at the time of listing are essential to the conservation of the species and why.

(7) Land use designations and current or planned activities in the subject areas and their possible impacts on proposed critical habitat.

(8) Any foreseeable economic, national security, or other relevant impacts that may result from designating any area that may be included in the final designation. We are particularly interested in any impacts on small entities and the benefits of including or excluding areas from the proposed designation that are subject to these impacts.

(9) Whether our approach to designating critical habitat could be improved or modified in any way to provide for greater public participation and understanding, or to assist us in accommodating public concerns and comments.

If you submitted comments or information on the proposed rule (77 FR 28704) during the initial comment period from May 15, 2012, to July 16, 2012, please do not resubmit them. We have incorporated them into the public record as part of the original comment period, and we will fully consider them in our final determinations.

You may submit your comments and materials concerning the proposed rules by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2012-0017 for the proposed listing action and at Docket No. FWS-R1-ES-2013-0012 for the proposed critical habitat designation, or by appointment, during normal business hours, at the U.S. Fish and Wildlife Service, Washington Fish and Wildlife Office (see FOR FURTHER INFORMATION CONTACT).

Background

On May 15, 2012, we published a proposed rule to list Eriogonum codium (Umtanum desert buckwheat) and Physaria douglasii subsp. tuplashensis (White Bluffs bladderpod) as threatened and to designate critical habitat for these species (77 FR 28704). We proposed to designate a total of approximately 344 acres (139 hectares) of critical habitat for Eriogonum codium in Benton County, Washington, and approximately 2,861 acres (1,158 hectares) of critical habitat for Physaria douglasii subsp. tuplashensis in Franklin County, Washington. That proposal had a 60-day comment period, ending July 16, 2012.

On April 23, 2013, we published final rules for these proposed actions. We published the final listing rule under Docket No. FWS-R1-ES-2012-0017 (78 FR 23984) and the final critical habitat rule under Docket No. FWS-R1-ES-2013-0012 (78 FR 24008). The provisions of the final rules did not change from what was proposed. Both final rules had an effective date of May 23, 2013.

On May 23, 2013, we published a notice reopening the comment period on our May 15, 2012, proposed listing and designation of critical habitat (78 FR 30839) and published a document to delay the effective date of the April 23, 2013 final rules for an additional 6 months—until November 22, 2013 (May 23, 2013; 78 FR 30772). We delayed the effective date of the final rules and reopened the comment period on the proposed rules to allow us time to follow proper procedure in accordance with 16 U.S.C. 1533(b)(5). If, after review of any comments received during this reopened comment period, we determine that we should revise the final rules, we will announce this decision and our course of action in a document published in the Federal Register.

Authority

The authority for this action is the Endangered Species Act of 1973, as amended (16 U.S.C. 1531 et seq.).

Dated: June 20, 2013.
Rachel Jacobson,
Principal Deputy Assistant Secretary for Fish and Wildlife and Parks.

[FR Doc. 2013-15531 Filed 6-25-13; 4:15 pm]

BILLING CODE 4310-55-P